DEPARTMENT OF DEFENSE

Department of the Navy

[Docket ID: USN-2020-HQ-0002]

Submission for OMB Review; Comment Request

AGENCY: The Office of the Secretary of the Navy, DoD.

ACTION: 30-day information collection notice.

SUMMARY: The Department of Defense has submitted to OMB for clearance the following proposal for collection of information under the provisions of the Paperwork Reduction Act.

DATES: Consideration will be given to all comments received by April 20, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Enterprise Military Housing II; OMB Control Number 0703-0066.

Type of Request: Revision.

Homes.mil

Number of Respondents: 8,234.

Responses per Respondent: 5.

Annual Responses: 41,170.

Average Burden Per Response: 20 minutes.

Annual Burden Hours: 13,723.3.

Phone Responses

Number of Respondents: 4,117.

Responses per Respondent: 5.

Annual Responses: 20,585.

Average Burden per Response: 20 minutes.

Annual Burden Hours: 6,861.7.

Heat

Number of Respondents: 1,658.

Responses per Respondent: 1.

Annual Responses: 1,658.

Average Burden per Response: 10 minutes.

Annual Burden Hours: 276.3.

Total Number of Respondents: 14,009.

Total Number of Annual Responses: 63,413.

Total Respondent Burden Hours: 20,861.

Needs and Uses: 10 United States Code, Section 1056 requires the provision of relocation assistance to military members and their families. Requirements include provision of information on housing costs/availability and home finding services. The Enterprise Military Housing System (eMH) includes a public website (HOMES.mil) which collects information needed to facilitate military personnel searching for suitable community rental housing within close proximity to military installations.

Affected Public: Business or other for-profit; individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: March 17, 2020.
Aaron T. Siegel,
Alternate OSD Federal Register Liaison Officer, Department of Defense.

[FR Doc. 2020-05953 Filed 3-19-20; 8:45 am]

BILLING CODE 3810-FF-P